DEPARTMENT OF TRANSPORTATION

Federal Aviation Administration

14 CFR Part 39

[Docket No. FAA-2007-0345; Directorate Identifier 2007-NM-194-AD; Amendment 39-15465; AD 2008-08-13]

RIN 2120-AA64

Airworthiness Directives; Airbus Model A310-304, -322, -324, and -325 Airplanes; and A300 Model B4-601, B4-603, B4-605R, B4-620, B4-622, B4-622R, F4-605R, F4-622R, and C4-605R Variant F Airplanes (Commonly Called Model A300-600 Series Airplanes)

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Due to the recalculation of loads for the Multi Role Transporter and Tanker (MRTT) aircraft, it has been found that a structural reinforcement at the aft section of the fuselage (FR (frame) 87-FR91) is required for A300-600 aircraft and A310 aircraft with a Trim Tank installed.

* * * * * * *

The unsafe condition is the potential loss of structural integrity in the aft section of the fuselage between FR87 through FR91, inclusive, during extreme rolling and vertical maneuver combinations. We are issuing this AD to require actions to correct the unsafe condition on these products.

DATES: This AD becomes effective May 19, 2008.

The Director of the Federal Register approved the incorporation by reference of certain publications listed in this AD as of May 19, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on December 19, 2007 (72 FR 71832). That NPRM proposed to correct an unsafe condition for the specified products. The MCAI states:

Due to the recalculation of loads for the Multi Role Transporter and Tanker (MRTT) aircraft, it has been found that a structural reinforcement at the aft section of the fuselage (FR (frame) 87-FR91) is required for A300-600 aircraft and A310 aircraft with a Trim Tank installed.

* * * * * * *

The unsafe condition is the potential loss of structural integrity in the aft section of the fuselage between FR87 through FR91, inclusive, during extreme rolling and vertical maneuver combinations. The corrective action is reinforcing the structure at FR91. Related investigative and corrective actions (reinforcement) include:

• Doing a rotating probe inspection for cracking of the fastener holes;

• reaming the fastener holes; and

• contacting Airbus for repair instructions and repairing any crack found in any reamed fastener hole.

You may obtain further information by examining the MCAI in the AD docket.

Comments

We gave the public the opportunity to participate in developing this AD. We considered the comments received.

Request To Update Service Information Reference

Airbus requests that we update the service information citations in the NPRM. Airbus states that new revisions of the cited service bulletins have been released and asserts that no additional work or substantial changes were introduced in the revised service bulletins.

We agree with this request. We have reviewed Airbus Service Bulletin A310-53-2126, Revision 01, dated May 31, 2007; and Airbus Service Bulletin A300-53-6156, Revision 01, dated July 4, 2007; and have confirmed that no additional work or substantial changes were introduced in the new revisions. We have revised the AD accordingly, and given credit for actions done in accordance with the original issue of the service information.

Request To Clarify Reason

Airbus requests that we review the description of the corrective actions specified in the NPRM. Airbus suggests that we revise paragraph (e) of the NPRM to include installing new oversized fasteners (for all airplanes) and installing reinforcing brace plates on the diagonal struts between FR87 and FR91 (for certain airplanes). Airbus asserts that if we revise the NPRM as requested, it will clarify the proposed requirements of the NPRM.

We agree with Airbus that this is useful information. However, when we state in an AD that corrective actions include certain actions, we specify only major corrective actions. The AD requires doing the corrective actions as applicable, and directs operators to the service information for detailed procedures to accomplish those actions. It is not necessary to change the AD in this regard.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 160 products of U.S. registry. We also estimate that it will take about 129 work-hours per product to comply with the basic requirements of this AD. The average labor rate is $80 per work-hour. Required parts will cost about $5,840 per product. Where the service information lists required parts costs that are covered under warranty, we have assumed that there will be no charge for these parts. As we do not control warranty coverage for affected parties, some parties may incur costs higher than estimated here. Based on these figures, we estimate the cost of this AD to the U.S. operators to be $2,585,600, or $16,160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-08-13 Airbus: Amendment 39-15465. Docket No. FAA-2007-0345; Directorate Identifier 2007-NM-194-AD.

Effective Date

(a) This airworthiness directive (AD) becomes effective May 19, 2008.

Affected ADs

(b) None.

Applicability

(c) This AD applies to Airbus Model A310-304, -322, -324, and -325 airplanes, certificated in any category, all serial numbers, except those which have received in service application of Airbus Service Bulletin A310-53-2126 (Airbus modification No. 13011). This AD also applies to Airbus A300 Model B4-601, B4-603, B4-605R, B4-620, B4-622, B4-622R, F4-605R, F4-622R, and C4-605R Variant F airplanes (commonly called Model A300-600 series airplanes), certificated in any category, all serial numbers, except those which have received application of Airbus modification No. 13273 in production or application of Airbus Service Bulletin A300-53-6156 in service.

Subject

(d) Air Transport Association (ATA) of America Code 53: Fuselage.

Reason

(e) The mandatory continuing airworthiness information (MCAI) states:

Due to the recalculation of loads for the Multi Role Transporter and Tanker (MRTT) aircraft, it has been found that a structural reinforcement at the aft section of the fuselage (FR (frame) 87-FR91) is required for A300-600 aircraft and A310 aircraft with a Trim Tank installed.

* * * * * * *

The unsafe condition is the potential loss of structural integrity in the aft section of the fuselage between FR87 through FR91, inclusive, during extreme rolling and vertical maneuver combinations. The corrective action is reinforcing the structure at FR91. Related investigative and corrective actions (reinforcement) include:

• Doing a rotating probe inspection for cracking of the fastener holes;

• reaming the fastener holes; and

• contacting Airbus for repair instructions and repairing any crack found in any reamed fastener hole.

Actions and Compliance

(f) Unless already done, do the following actions.

(1) Within 2,500 flight cycles after the effective date of this AD, reinforce the aft section of the fuselage, in accordance with the Accomplishment Instructions of Airbus Service Bulletin A310-53-2126, Revision 01, dated May 31, 2007; and Airbus Service Bulletin A300-53-6156, Revision 01, dated July 4, 2007; as applicable. Do all related and investigative corrective actions, as applicable, before further flight. Actions done before the effective date of this AD in accordance with Airbus Service Bulletin A310-53-2126 or Airbus Service Bulletin A300-53-6156, both dated November 28, 2006, are considered acceptable for compliance with the corresponding action specified in this AD.

FAA AD Differences

Note: This AD differs from the MCAI and/or service information as follows: No difference.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0173, dated June 18, 2007; Airbus Service Bulletin A310-53-2126, Revision 01, dated May 31, 2007; and Airbus Service Bulletin A300-53-6156, Revision 01, dated July 4, 2007; for related information.

Material Incorporated by Reference

(i) You must use Airbus Service Bulletin A310-53-2126, Revision 01, dated May 31, 2007; or Airbus Service Bulletin A300-53-6156, Revision 01, dated July 4, 2007; as applicable; to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on April 3, 2008.
Dionne Palermo,
Acting Manager, Transport Airplane Directorate, Aircraft Certification Service.

[FR Doc. E8-7665 Filed 4-11-08; 8:45 am]

BILLING CODE 4910-13-P